NATIONAL AERONAUTICS AND SPACE ADMINISTRATION

Notice [00-017]

Agency Information Collection: Submission for OMB Review, Comment Request

AGENCY: National Aeronautics and Space Administration (NASA).

ACTION: Notice of Agency Report Forms Under OMB Review.

SUMMARY: The National Aeronautics and Space Administration has submitted to the Office of Management and Budget (OMB) the following proposal for the collection of information under the provisions of the Paperwork Reduction Act (44 U.S.C. Chapter 35).

DATES: Comments on this proposal should be received on or before March 10, 2000.

ADDRESSES: All comments should be addressed to Mr. Karl Beisel, National Aeronautics and Space Administration, Washington, DC 20546.

FOR FURTHER INFORMATION CONTACT: Ms. Carmela Simonson, Office of the Chief Information Officer, (202) 358-1223.

Reports: None.

Title: Security Requirements for Unclassified Information Technology.

OMB Number: 2700-Type of Review: New.

Need and Uses: NASA must safeguard its unclassified Information Technology hardware, software and data. Respondents will be NASA contractors and subcontractors involved in IT.

Affected Public: Business or other for-profit.

Estimated Number of Respondents: 200.

Responses Per Respondent: 2.

Estimated Annual Responses: 400.

Estimated Hours Per Request: 470 hrs.

Estimated Annual Burden Hours: 188,000.

Frequency of Report: Semi-annually.

David B. Nelson,
Deputy Chief Information Officer, Office of the Administrator.

[FR Doc. 00-2869 Filed 2-8-00; 8:45 am]

BILLING CODE 7510-01-P